DEPARTMENT OF THE INTERIOR

National Park Service

[NPS-WASO-NAGPRA-NPS0030725; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Indian Tribes, and has determined that there is no cultural affiliation between the human remains and associated funerary objects and any present-day Indian Tribes. Representatives of any Indian Tribe not identified in this notice that wish to request transfer of control of these human remains and associated funerary objects should submit a written request to the TVA. If no additional requestors come forward, transfer of control of the human remains and associated funerary objects to the Indian Tribe stated in this notice may proceed.

DATES: Representatives of any Indian Tribe not identified in this notice that wish to request transfer of control of these human remains and associated funerary objects should submit a written request with information in support of the request to the TVA at the address in this notice by October 8, 2020.

ADDRESSES: Dr. Thomas O. Maher, Tennessee Valley Authority, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN, and stored at the McClung Museum of Natural History and Culture (MM) at the University of Tennessee, Knoxville, TN. The human remains and associated funerary objects were excavated from site 40BN77, also known as the McDaniel archeological site, in Benton County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Cherokee Nation; Coushatta Tribe of Louisiana; Eastern Band of Cherokee Indians; The Chickasaw Nation; The Muscogee (Creek) Nation; The Osage Nation (previously listed as Osage Tribe); The Seminole Nation of Oklahoma; Thlopthlocco Tribal Town; and the United Keetoowah Band of Cherokee Indians in Oklahoma (hereafter referred to as “The Consulted Tribes”).

History and Description of the Remains

Site 40BN77 was excavated as part of TVA's Kentucky Reservoir project by the University of Tennessee, using labor and funds provided by the Works Progress Administration. Details regarding these excavations have not been published. A field report by Douglas Osborn regarding this site can be found at the MM and TVA. The human remains and associated funerary objects listed in this notice have been in the physical custody of the University of Tennessee since excavation, but they are under the control of the TVA.

From June to August 1941, human remains representing, at minimum, 21 individuals were removed from site 40BN77, in Benton County, TN. These human remains represent seven females, two males, and 12 individuals of undeterminable sex. They represent primarily adults. No known individuals were identified. The 116 associated funerary objects include five antler adzes, one antler projectile point, four bone awls, two blades, 39 animal bones, two animal mandibles, one ceramic sherd, three dog burials, two drills, 10 projectile points, two samples of red ochre, and 45 fragments of a turtle shell pendant.

Excavation at 40BN77 commenced after TVA had acquired the land on September 26, 1940. Douglas Osborne did not intend to do large scale excavations at 40BN77, and therefore did not excavate test trenches before opening excavation squares. Two strata were defined below the plow zone. Osborne indicates that “Stratum I was a dark red brown to black humic band varying around one foot, but rather more than less, in thickness.” Stratum II was not as thick. Osborne describe it as “. . . a thinned mixture of Stratum I.”

In his 2014 dissertation, Thaddeus Bissett presented two radiocarbon dates from this site, 4474 ± 66 BP and 4243 ± 90 BP. According to Bissett, the available evidence indicates that the primary occupation was from the Late Archaic to the Early Woodland.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 21 individuals of Native American ancestry.

• Pursuant to 25 U.S.C. 3001(3)(A), the 116 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The Treaty of October 19, 1818, indicates that the land from which the cultural items were removed is the aboriginal land of The Chickasaw Nation.

• Pursuant to 43 CFR 10.11(c)(1)(ii), the disposition of the human remains may be to The Chickasaw Nation.

• Pursuant to 43 CFR 10.11(c)(4), the Tennessee Valley Authority has agreed to transfer control of the associated funerary objects to The Chickasaw Nation.

Additional Requestors and Disposition

Representatives of any Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by October 8, 2020. After that date, if no additional requestors have come forward, transfer of control of the human remains and associated funerary objects to The Chickasaw Nation may proceed.

The Tennessee Valley Authority is responsible for notifying The Consulted Tribes that this notice has been published.

Dated: August 3, 2020.
Melanie O'Brien,
Manager, National NAGPRA Program.

[FR Doc. 2020-19694 Filed 9-4-20; 8:45 am]

BILLING CODE 4312-52-P